DEPARTMENT OF ENERGY

Federal Energy Regulatory Commission

[IC06-500-001, FERC 500]

Commission Information Collection Activities, Proposed Collection; Comment Request; Extension

June 16, 2006.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of March 30, 2006 (71 FR 16132-16133) and has made this notation in its submission to OMB.

DATES: Comments on the collection of information are due by July 28, 2006.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings, and original and 14 copies of such comments should be submitted to the Secretary of the Commission, Federal Energy Regulatory Commission, 888 First Street, NE., Washington, DC 20426 and should refer to Docket No. IC06-500-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 500 “Application for License/Relicense for Water Projects with More than 5MW Capacity”.

2. Sponsor: Federal Energy Regulatory Commission.

3. Control No.: 1902-0058.

The Commission is now requesting that OMB approve and extend the expiration date for an additional three years with no changes to the existing collection. The information filed with the Commission is mandatory.

4. Necessity of the Collection of Information: Submission of the information is necessary for the Commission to carry out its responsibilities in implementing the Statutory provisions consists of the filing requirements as defined 18 CFR 4.32, 4.38, 4.40-41, 4.50-51, 4.61, 4.71, 4.93, 4.107-108, 4.201-.202, 16.1, 16.10, 16.20, 292.203 and 292.208. The information collected under the requirements of FERC-500 is used by the Commission to determine the broad impact of a hydropower license application. In deciding whether to issue a license, the Commission gives equal consideration to full range of licensing purposes related to the potential value of a stream or river. Among these purposes are: hydroelectric development; energy conservation; fish and wildlife resources; including their spawning grounds and habitat; visual resources; cultural resources; recreational opportunities; other aspects of environmental quality; irrigation; flood control and water supply.

Submission of the information is necessary to fulfill the requirements of the Federal Power Act in order for the Commission to make the required finding that the proposal is economically sound is best adapted to a comprehensive plan for improving/developing a waterway or waterways. Under Part I of the Federal Power Act (FPA), 16 U.S.C. 791a et seq.), the Commission has the authority to issue licenses for hydroelectric projects on the waters over which Congress has jurisdiction. The Electric Consumers Protection Act (Pub. L. 99-495, 100 Stat. 1243) provides the Commission with the responsibility of issuing licenses for nonfederal hydroelectric plants. ECPA also amended the language of the FPA concerning environmental issues to ensure environmental quality.

In Order No. 2002 (68 FR 51070, August 25, 2003; FERC Statutes and Regulations ¶31,150 at p. 30,688) the Commission revised its regulations to create a new licensing process in which a potential license applicant's pre-filing consultation and the Commission's scoping process pursuant to the National Environmental Policy Act (42 U.S.C. 4321) are conducted concurrently rather than sequentially. The Commission estimated that if an applicant chooses to use the new licensing process, this could result in a reduction of 30% from the traditional licensing process. The reporting burden related to Order No. 2002 would be on average 32,200 hours as opposed to 46,000 hours per respondent in the traditional licensing process or 39,000 hours for the alternative licensing process. It has been nearly three years since Order No. 2002 was issued and applicants have experienced the opportunity to gain the benefits from the revised licensing process. In particular, applicants have benefited from (a) increased public participation in pre-filing consultation; (b) increased assistance from Commission staff to the potential applicant and stakeholders during the development of a license application; (c) development by the potential applicant of a Commission-approved study plan; (d) elimination of the need for post-application study requests; (e) issuance of public schedules and enforcement of deadlines; (f) better coordination between the Commission's processes, including the NEPA document preparation, and those of Federal and state agencies and Indian tribes with authority to require conditions for Commission-issued licenses. It is for these reasons, that the Commission will use the estimates projected in the table below.

The information collected is needed to evaluate license application pursuant to the comprehensive development standard of FPA sections 4(e) and 10(a)(1), to consider the comprehensive development analysis of certain factors with respect to the new license set forth in section 15, and to comply with NEPA, Endangered Species Act (16 U.S.C. 1531 et seq.) and the National Historic Preservation Act (16 U.S.C. 470 et seq.)

Commission staff conducts a systematic review of the prepared application with supplemental documentation provided by the solicitation of comments from other agencies and the public.

5. Respondent Description: The respondent universe currently comprises 13 respondents (on average) subject to the Commission's jurisdiction.

6. Estimated Burden: 463,060 total hours, 13 respondents (average), 1 response per respondent, and 35,620 hours per response (average).

7. Estimated Cost Burden to Respondents: Estimated cost burden to respondents is $62,430,000. ($7,800,000 (traditional process) + $17,600,000 (alternative process) + $37,030,000 (integrated process). These costs were determined by the percentage of applicants that would be using each of these processes. Annualized costs per project $2,600,000 (traditional); $2,200,000 (alternative licensing) and $1,610,000 (integrated licensing).

Statutory Authority: Statutory provisions of Submission of the information is necessary for the Commission to carry out its responsibilities in implementing the Statutory provisions consists of the filing requirements as defined 18 CFR 4.32, 4.38, 4.40-41, 4.50-51, 4.61, 4.71, 4.93, 4.107-108, 4.201-.202, 16.1, 16.10, 16.20, 292.203 and 292.208.

Magalie R. Salas,
Secretary.

[FR Doc. E6-9891 Filed 6-21-06; 8:45 am]

BILLING CODE 6717-01-P